DEPARTMENT OF DEFENSE

Office of the Secretary

[Docket ID: DoD-2021-OS-0065]

Submission for OMB Review; Comment Request

AGENCY: Chief Information Officer (CIO), Department of Defense (DoD).

ACTION: 30-Day information collection notice.

SUMMARY: The DoD has submitted to the Office of Management and Budget (OMB) for clearance the following proposal for collection of information under the provisions of the Paperwork Reduction Act.

DATES: Consideration will be given to all comments received by January 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, (571) 344-1358, whs.mc-alex.esd.mbx.dd-dod-information-collections@mail.mil.

SUPPLEMENTARY INFORMATION:

Title; Associated Form; and OMB Number: DoD Cyber Scholarship Program; OMB Control Number 0704-0486.

Type of Request: Reinstatement.

DoD Cyber Scholarship Program Student Applications

Number of Respondents: 584.

Responses per Respondent: 1.

Annual Responses: 584.

Average Burden per Response: 4.47 hours.

Annual Burden Hours: 2,626.

DoD Cyber Scholarship Program Grant Proposals

Number of Respondents: 89.

Responses per Respondent: 1.47

Annual Responses: 131.

Average Burden per Response: 18.69 hours.

Annual Burden Hours: 2,448.

DoD Cyber Scholarship Annual Reports

Number of Respondents: 89.

Responses per Respondent: 1.

Annual Responses: 89.

Average Burden per Response: 8 hours.

Annual Burden Hours: 712.

Total

Number of Respondents: 673 (584 student applications and 89 respondents to Proposals and Annual Reports).

Annual Responses: 804.

Annual Burden Hours: 5,786.

Needs and Uses: DoD Cyber Scholarship Program (DoD CySP), authorized by section 2200 of title 10 of the United States Code, is designed to: increase the number of new entrants to DoD who possess key Cyber and Information Technology (IT) skill sets; and serve as a tool to develop and retain well-educated military and civilian personnel who support the Department's critical IT management and infrastructure protection functions. The DoD CySP recruitment track is for college students who, upon completion of the program, will work for the DoD. The retention track is for current DoD employees attending college courses through the DoD CySP while still performing their mission duties. Pending availability of funds, the DoD CySP may also award capacity-building grants to colleges and universities designated as National Centers of Academic Excellence in Cybersecurity, (referred to herein as NCAE-Cs) who respond to one of the two scholarship tracks: for such purposes as developing cyber curricula and faculty, building cyber laboratories, and outreach to minority institutions. The National Security Agency (NSA) is the Executive Administrator of the program, serving on behalf of the DoD CIO. NCAE-Cs interested in applying for grants (scholarship and/or capacity-building) must complete and submit a written technical and financial proposal, as well as forms required by federal grant policy (forms are identified in the grant solicitation and can be downloaded at www.grants.gov). DoD requires this information collection (proposals and grant execution accomplishments) to measure the performance of the capacity building components of the DoD CySP. DoD uses the information collected in the scholarship application process to assess the quality of applicants selected for inclusion in the DoD CySP. Without this documentation detailing scholarship applicants' credentials, grant proposals, and grant execution accomplishments, the DoD has no means of judging the quality of applicants to the program or collecting information regarding program performance.

Affected Public: Individuals or households (Student Applicants); Not-for-profit Institutions; State, Local or Tribal Government; Businesses or other for-profit (Academic Institutions).

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan, (571) 344-1358, whs.mc-alex.esd.mbx.dd-dod-information-collections@mail.mil.

Dated: December 13, 2023.
Aaron T. Siegel,
Alternate OSD Federal Register Liaison Officer, Department of Defense.

[FR Doc. 2023-27733 Filed 12-15-23; 8:45 am]

BILLING CODE 6001-FR-P